DEPARTMENT OF ENERGY

Federal Energy Regulatory Commission

[Docket No. RM04-7-000]

Market Based Rates for Public Utilities; Notice of Technical Conference

December 22, 2004.

Take notice that a technical conference will be held concerning issues associated with the above-captioned rulemaking proceeding on market based rates. The technical conference will take place on January 27 and 28, 2005, from 9 a.m. to 4:30 p.m. (EST), in the Commission Meeting Room at the Federal Energy Regulatory Commission, 888 First Street, NE., Washington, DC. Members of the Commission will attend the conference. An agenda will be issued at a later time.

The topic of the conference will be issues associated with generation market power and affiliate abuse, two of the four prongs the Commission uses to determine market power in electric markets. The first day of the conference will consider whether, and if so to what extent, the Commission should modify the interim generation market power screens adopted by the Commission and the appropriate mitigation for those found to have generation market power.¹ The second day of the technical conference will address issues of affiliate abuse and reciprocal dealing, including any mitigation measures the Commission should consider.

The Commission is now soliciting nominations for speakers at the technical conference. Those persons wishing to nominate speakers should do so using the electronic link: http://www.ferc.gov/whats-new/registration/mbr-01-27-speaker-form.asp Such nominations must be made before the close of business, Friday, January 7, 2005. The Commission may not be able to accommodate all nominated speakers.

Transcripts of the conference will be immediately available from Ace Reporting Company (202-347-3700 or 1-800-336-6646) for a fee. They will be available for the public on the Commission's eLibrary system seven calendar days after FERC receives the transcripts. Additionally, Capitol Connection offers the opportunity for remote listening of the conference via the Internet or a Phone Bridge Connection for a fee. Interested persons should make arrangements as soon as possible by visiting the Capitol Connection Web site at http://www.capitolconnection.gmu.edu and clicking on “FERC.” If you have any questions contact David Reininger or Julia Morelli at the Capitol Connection (703-993-3100).

FERC conferences are accessible under section 508 of the Rehabilitation Act of 1973. For accessibility accommodations please send an email to accessibility@ferc.gov or call toll free (866) 208-3372 (voice) or 202-20801659 (TTY), or send a FAX to 202-208-2106 with the required accommodations.

For more information about the conference, please contact Kelly Perl at 202-502-6421 or kelly.perl@ferc.gov.

Additional details and the panelists for this conference will be included in a supplemental notice to be issued later.

Magalie R. Salas,
Secretary.

¹ American Electric Power Marketing, Inc., 107 FERC ¶ 61,018 (2004), order on reh'g, 108 FERC ¶ 61,026 (2004).

[FR Doc. E4-3904 Filed 12-29-04; 8:45 am]

BILLING CODE 6717-01-P